DEPARTMENT OF LABOR

Office of Disability Employment Policy; Advisory Committee on Increasing Competitive Integrated Employment for Individuals With Disabilities; Notice of Meeting

The Advisory Committee on Increasing Competitive Integrated Employment for Individuals with Disabilities (the Committee) was mandated by section 609 of the Rehabilitation Act of 1973, as amended by section 461 of the Workforce Innovation and Opportunity Act. The Secretary of Labor established the Committee on September 15, 2014 in accordance with the provisions of the Federal Advisory Committee Act, as amended, 5 U.S.C. App. 2. The purpose of the Committee is to study and prepare findings, conclusions and recommendations for Congress and the Secretary of Labor on (1) ways to increase employment opportunities for individuals with intellectual or developmental disabilities or other individuals with significant disabilities in competitive, integrated employment; (2) the use of the certificate program carried out under section 14(c) of the Fair Labor Standards Act of 1938 (29 U.S.C. 214(c)); and (3) ways to improve oversight of the use of such certificates.

The Committee is required to meet no less than eight times. It is also required to submit a final report to: The Secretary of Labor; the Senate Committee on Health, Education, Labor and Pensions; and the House Committee on Education and the Workforce by September 15, 2016. The Committee terminates one day after the submission of the final report.

The next meeting of the Committee will take place on Wednesday, July 20, 2016, and Thursday, July 21, 2016. The meeting will be open to the public on Wednesday, July 20th from 9:30 a.m. to 4:00 p.m. Eastern Daylight Time (EDT). On Thursday, July 21st, the meeting will be open to the public from 9:00 a.m. to 12:30 p.m. EDT. The meeting will take place at the U.S. Access Board, 1331 F Street NW., Suite 800, Washington, DC 20004-1111.

On July 20th and 21st, the Committee will review, discuss, and finalize the latest draft of the final report. The Committee will also hear from a panel of experts regarding the most recent developments in increasing competitive integrated employment at the state level. In addition, a representative of the Department will thank the Committee members for their work.

Members of the public who wish to address the Committee on the final report or other Committee related matters during the public comment period of the meeting on Wednesday, July 20th between 11:45 a.m. and 12:15 p.m., EDT, should send their name, their organization's name (if applicable) and any additional materials (such as a copy of the proposed testimony) to David Berthiaume at Berthiaume.David.A@dol.gov or call Mr. Berthiaume at (202) 693-7887 by Friday, July 8th. Members of the public will have the option of addressing the Committee in person or remotely by phone. If we receive more requests than we can accommodate during the public comment portion of the meeting, we will select a representative sample to speak, and the remainder will be permitted to file written statements. Individuals with disabilities who need accommodations should also contact Mr. Berthiaume at the email address or phone number above.

Organizations or members of the public wishing to submit comments may do so by using the form found at: www.acicieid.org/comments. All comments received prior to July 8, 2016, will be forwarded to the Committee in advance of the July meeting. Members of the public may also submit comments in writing on or before July 8, 2016, to David Berthiaume, Advisory Committee on Increasing Competitive Integrated Employment for Individuals with Disabilities, U.S. Department of Labor, Suite S-1303, 200 Constitution Avenue NW., Washington, DC 20210. Please ensure that any written submission is in an accessible format or the submission will be returned. Written statements deemed relevant by the Committee and received on or before July 8, 2016, will be included in the record of the meeting. Do not include any personally identifiable information (such as name, address, or other contact information) or confidential business information that you do not want publicly disclosed.

Jennifer Sheehy,
Deputy Assistant Secretary, Office of Disability Employment Policy.

[FR Doc. 2016-14158 Filed 6-14-16; 8:45 am]

BILLING CODE 4510-23-P